DEPARTMENT OF ENERGY

Federal Energy Regulatory Commission

[Docket Nos. RP08-426-000; RP08-426-001]

El Paso Natural Gas Company; Notice of Technical Conference

August 22, 2008.

On June 30, 2008, El Paso Natural Gas Company (El Paso) filed revised tariff sheets pursuant to section 4 of the Natural Gas Act and Part 154 of the Commission's regulations. In its filing, El Paso proposes a number of new services, a rate increase for existing services, and changes in certain terms and conditions of service. On August 5, 2008, the Commission issued an order ¹ accepting and suspending the tariff sheets, subject to refund and conditions, establishing hearing procedures, and establishing a technical conference. In that order, the Commission directed the Staff to convene a technical conference to address the proposed services and terms and conditions reflected in El Paso's filing.

¹ 124 FERC ¶ 61,124 (2008).

Take notice that a technical conference to discuss issues raised by El Paso's filing will be held on Thursday, September 11, 2008 at 9 a.m. (EST) and Friday, September 12, 2008 at 9 a.m. (EST), in a room to be designated at the offices of the Federal Energy Regulatory Commission, 888 First Street, NE., Washington, DC 20426. If necessary, the conference will continue on Tuesday, October 21, 2008 at 9 a.m. (EST) and Wednesday, October 22, 2008 at 9 a.m. (EST).

FERC conferences are accessible under section 508 of the Rehabilitation Act of 1973. For accessibility accommodations please send an e-mail to accessibility@ferc.gov or call toll free 1-866-208-3372 (voice) or 202-208-1659 (TTY), or send a FAX to 202-208-2106 with the required accommodations.

All parties and staff are permitted to attend. For further information please contact April Ballou at (202) 502-6537 or April.Ballou@ferc.gov.

Kimberly D. Bose,
Secretary.

[FR Doc. E8-20046 Filed 8-28-08; 8:45 am]

BILLING CODE 6717-01-P